DEPARTMENT OF ENERGY

Federal Energy Regulatory Commission

[Docket Nos. RM12-1-001, RM13-9-001; Docket No. RM13-11-001; Docket No. RM13-16-001]

Transmission Planning Reliability Standards, Frequency Response and Frequency Bias, Setting Reliability Standard, Generator Verification Reliability Standards; Notice of Filing

September 24, 2014.

Take notice that on August 29, 2014, the North American Electric Reliability Corporation filed proposed revisions to various Violation Risk Factors and Violation Severity Levels associated with certain Transmission Planning Reliability Standards, Generator Verification Reliability Standards, and Frequency Response and Frequency Bias Setting Reliability Standards pursuant to Federal Energy Regulatory Commission's (Commission) Order Nos. 786,¹ 796,² and 794.³

¹ Transmission Planning Reliability Standards, Order No. 786, 145 FERC ¶ 61,051 (2013).

² Generator Verification Reliability Standards, Order No. 796, 146 FERC ¶ 61,213 (2014).

³ Frequency Response and Frequency Bias Setting Reliability Standard, Order No. 794, 146 FERC ¶ 61,024 (2014).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 14, 2014.

Nathaniel J. Davis, Sr.,
Deputy Secretary.

[FR Doc. 2014-23245 Filed 9-29-14; 8:45 am]

BILLING CODE 6717-01-P